DEPARTMENT OF AGRICULTURE

Rural Utilities Service

Information Collection Activity; Comment Request

AGENCY: Rural Utilities Service, USDA.

ACTION: Notice and request for comments.

SUMMARY: In accordance with the Paperwork Reduction Act of 1995 (44 U.S.C. chapter 35, as amended), the Rural Utilities Service (RUS) invites comments on the following information collections for which RUS intends to request approval from the Office of Management and Budget (OMB).

DATES: Comments on this notice must be received by October 15, 2002.

FOR FURTHER INFORMATION CONTACT: F. Lamont Heppe, Jr., Director, Program Development and Regulatory Analysis, Rural Utilities Service, 1400 Independence Ave., SW., STOP 1522, Room 4036, South Building, Washington, DC 20250-1522. Telephone: (202)720-9550. Fax: (202) 720-4120.

SUPPLEMENTARY INFORMATION: The Office of Management and Budget's (OMB) regulation (5 CFR 1320) implementing provisions of the Paperwork Reduction Act of 1995 (Pub. L. 104-13) requires that interested members of the public and affected agencies have an opportunity to comment on information collection and recordkeeping activities [see 5 CFR 1320.8(d)]. This notice identifies information collections that RUS is submitting to OMB for extension.

Comments are invited on: (a) Whether this collection of information is necessary for the proper performance of the functions of the agency, including whether the information will have practical utility; (b) the accuracy of the agency's estimate of the burden of the collection of information including the validity of the methodology and assumptions used; (c) ways to enhance the quality, utility, and clarity of the information to be collected; and (d) ways to minimize the burden of the collection of information on respondents, including through the use of appropriate automated, electronic, mechanical or other technological collection techniques or other forms of information technology. Comments may be sent to F. Lamont Heppe, Jr., Director, Program Development and Regulatory Analysis, Rural Utilities Service, U.S. Department of Agriculture, STOP 1522, 1400 Independence Ave., SW., Washington, DC 20250-1522. Fax: (202) 720-4120.

• Title: 7 CFR Part 1789, Use of Consultants Funded by Borrowers.

• OMB Control Number: 0572-0115.

• Type of Request: Extension of a currently approved collection.

• Abstract: Section 18(c) of the Rural Electrification Act of 1936 (RE Act), as amended (7 U.S.C. 901 et seq.) authorizes RUS to use consultants voluntarily funded by borrowers for financial, legal, engineering, and other technical services. Consultants may be used to facilitate timely action on loan applications by borrowers for financial assistance and for approvals required by RUS, pursuant to the terms of outstanding loans, or otherwise. RUS may not require borrowers to fund consultants. The provisions of section 18(c) may be utilized only at the borrower's request.

Estimate of Burden: Public reporting burden for this collection of information is estimated to average 2 hours per response.

Respondents: Not for profit institutions; business or other for-profit.

Estimated Number of Respondents: 6.

Estimated Number of Responses per Respondent: 1.

Estimated Total Annual Burden on Respondents: 12 hours.

• Title: Prospective Large Power Service.

• OMB Control Number: 0572-0001.

• Type of Request: Extension of a currently approved collection.

• Abstract: The RUS makes mortgage loans and loan guarantees to electric systems to provide and improve electric service in rural areas pursuant to the RE Act of 1936, as amended (7 U.S.C. 901 et seq.). RUS electric borrowers often enter into special contracts with commercial and industrial consumers for the retail sale of electricity. These contracts typically require extensions to the borrower's electric system which may be financed with RUS loan funds, debt financing from another source, the borrower's own funds, sometimes called general funds, and/or funds provided by the consumer.

RUS review of these contracts is intended to protect the interests of the government as a secured lender and to foster the purposes of the RE Act. RUS Form 170, Prospective Large Power Service, provides RUS with information needed for this review.

Estimate of Burden: Public reporting burden for this collection of information is estimated to average 4 hours per response.

Respondents: Not-for-profit institutions; business or other for-profit.

Estimated Number of Respondents: 5.

Estimated Number of Responses per Respondent: 1.

Estimated Total Annual Burden on Respondents: 20 hours.

• Title: Request for Approval to Sell Capital Assets.

• OMB Control Number: 0572-0020.

• Type of Request: Extension of a currently approved collection.

• Abstract: A borrower s assets provide the security for a Government loan. The selling of assets reduces the security and increases the risk to the Government. RUS Form 369 allows the borrower to seek agency permission to sell some of its assets. The form collects detailed information regarding the proposed sale of a portion of the borrower's systems. RUS electric utility borrowers complete this form to request RUS approval in order to sell capital assets when the fair market value exceeds 10 percent of the borrower's net utility plant.

Estimate of Burden: Public reporting burden for this collection of information is estimated to average 3 hours per response.

Respondents: Not-for-profit institutions; business or other for-profit.

Estimated Number of Respondents: 5.

Estimated Number of Responses per Respondent: 1.

Estimated Total Annual Burden on Respondents: 15 hours.

• Title: Review Rating Summary, RUS Form 300.

• OMB Control Number: 0572-0025.

• Type of Request: Extension of a currently approved collection.

• Abstract: The RUS manages loan programs in accordance with the RE Act of 1936, as amended (7 U.S.C. 901 et seq.). An important part of safeguarding loan security is to see that RUS financed facilities are being responsibly used, adequately operated, and adequately maintained. Future needs have to be anticipated to ensure that facilities will continue to produce revenue and that loans will be repaid as required by the RUS mortgage. A periodic operations and maintenance (O&M) review, using the RUS Form 300, in accordance with 7 CFR part 1730, is an effective means for RUS to determine whether the borrowers systems are being properly operated and maintained, thereby protecting the loan collateral. An O&M review is also used to rate facilities and can be used for appraisals of collateral as prescribed by OMB Circular A-129, Policies for Federal Credit Programs and Non-Tax Receivables.

Estimate of Burden: Public reporting burden for this collection of information is estimated to average 4 hours per response.

Respondents: Not-for-profit institutions.

Estimated Number of Respondents: 253.

Estimated Number of Responses per Respondent: 1.

Estimated Total Annual Burden on Respondents: 1,012 hours.

• Title: Lien Accommodations and Subordinations, 7 CFR Part 1717, Subparts R and S.

• OMB Control Number: 0572-0100.

• Type of Request: Extension of a currently approved collection.

• Abstract: The RE Act of 1936, as amended (7 U.S.C. 901 et seq.), authorizes and empowers the Administrator of RUS to make loans in the several States and Territories of the United States for rural electrification and the furnishing of electric energy to persons in rural areas who are not receiving central station service. The RE Act also authorizes and empowers the Administrator of RUS to provide financial assistance to borrowers for purposes provided in the RE Act by accommodating or subordinating loans made by the National Rural Utilities Cooperative Finance Corporation, the Federal Financing Bank, and other lending agencies. 7 CFR part 1717, subparts R and S, sets forth policy and procedures to facilitate and support borrowers' efforts to obtain private sector financing of their capital needs, to allow borrowers greater flexibility in the management of their business affairs without compromising RUS loan security, and to reduce the cost to borrowers, in terms of time, expense and paperwork, of obtaining lien accommodations and subordinations.

Estimate of Burden: Public reporting burden for this collection of information is estimated to average 1.64 hours per response.

Respondents: Not-for-profit institutions; Business or other for-profit.

Estimated Number of Respondents: 22.

Estimated Number of Responses per Respondent: 1.91.

Estimated Total Annual Burden on Respondents: 69 hours.

• Title: Mergers and Consolidations of Electric Borrowers, 7 CFR 1717, subpart D.

• OMB Control Number: 0572-0114.

• Type of Request: Extension of a currently approved collection.

• Abstract: The RE Act of 1936, as amended (7 U.S.C. 901 et seq.), authorizes the RUS to make and guarantee loans for rural electrification. Due to deregulation and restructuring activities in the electric industry, RUS borrowers find it advantageous to merge or consolidate to meet the challenges of industry change. This information collection addresses the requirements of RUS policies and procedures for mergers and consolidations of electric program borrowers.

Estimate of Burden: Public reporting burden for this collection is estimated to average 1.3 hours per response.

Respondents: Not-for-profit institution; business or other for-profit.

Estimated Number of Respondents: 18.

Estimated Number of Responses per Respondent: 7.9.

Estimated Total Annual Burden on Respondents: 184 hours.

• Title: Financial and Statistical Report for Telecommunications Borrowers, RUS Form 479.

OMB Control Number: 0572-0031.

Type of Request: Extension of a currently approved collection.

Abstract: Each RUS telecommunications borrower signs a mortgage agreement that specifically requires the submission of annual audited financial statements. The information is provided on RUS Form 479.

Estimate of Burden: Public reporting burden for this collection is estimated to average 4 hours per response.

Respondents: Business or other for-profit; not-for-profit institutions.

Estimated Number of Respondents: 800.

Estimated Number of Responses per Respondent: 1.

Estimated Total Annual Burden on Respondents: 3,200 hours.

• Title: 7 CFR 1744-E, Borrower Investments Telecommunications Loan Program.

OMB Control Number: 0572-0098.

Type of Request: Extension of a currently approved collection.

Abstract: The Rural Economic Development Act of 1990, Title XXIII of the Farm Bill, Public Law 101-624, authorized qualified RUS borrowers to make investments in rural development projects without the prior approval of the RUS Administrator, provided, however, that such investments do not cause the borrower to exceed its allowable qualified investment level as determined in accordance with the procedures set forth in 7 CFR part 1744, subpart E. When a borrower exceeds these limits, the security for the Government's loans could be in jeopardy. However, in the interest of encouraging rural development, RUS will consider approving such investments that exceed a borrower's qualified investment level. This information collection covers those items that a borrower would need to submit to RUS for consideration of the borrower's request to make a rural development investment.

Estimate of Burden: Public reporting burden for this collection is estimated to average 9.5 hours per response.

Respondents: Business or other for-profits; not-for-profit institutions.

Estimated Number of Respondents: 25.

Estimated Number of Responses per Respondent: 1.

Estimated Total Annual Burden on Respondents: 238 hours.

Title: 7 CFR 1773, Policy on Audits of RUS Borrowers.

OMB Control Number: 0572-0095.

Type of Request: Extension of a currently approved collection.

Abstract: RUS, in representing the Federal Government as Mortgagee and in furthering the objectives of the RE Act of 1936, as amended (7 U.S.C. 901 et seq.), relies on the information provided by the borrowers in their financial statements to make lending decisions as to borrower's credit worthiness and to assure that loan funds are approved, advanced, and disbursed for proper RE Act purposes. These financial statements are audited by a certified public accountant to provide independent assurance that the data being reported are properly measured and fairly presented. Title 7 CFR part 1773 requires borrowers to furnish a full and complete report of their financial condition, operations and cash flows, in form and substance satisfactory to RUS, audited and certified by an independent certified public accountant, satisfactory to RUS, and accompanied by a report of such audit, in form and substance satisfactory to RUS.

Estimate of Burden: Public reporting burden for this collection is estimated to average 5.27 hours per response.

Respondents: Not-for-profit institutions; business or other for-profit.

Estimated Number of Respondents: 1,800.

Estimated Number of Responses per Respondent: 2.16.

Estimated Total Annual Burden on Respondents: 20,374 hours.

Copies of these information collections can be obtained from Michele Brooks, Program Development and Regulatory Analysis, at (202) 690-1078. Fax: (202) 720-4120.

All responses to this notice will be summarized and included in the requests for OMB approval. All comments will also become a matter of public record.

Dated: August 9, 2002.
Hilda Gay Legg,
Administrator, Rural Utilities Service.

[FR Doc. 02-20803 Filed 8-15-02; 8:45 am]

BILLING CODE 3410-15-P